FEDERAL COMMUNICATIONS COMMISSION

47 CFR Part 73

[DA 02-693; MM Docket No. 99-28, RM-9438]

Radio Broadcasting Services; Olathe, Colorado.

AGENCY: Federal Communications Commission.

ACTION: Final rule.

SUMMARY: In this document, the Commission grants a petition for rule making filed by Mountain West Broadcasting to allot Channel 270C2 to Olathe, Colorado, as a second local transmission service. See 64 FR 7846 (February 17, 1999). Channel 270C2 can be allotted to Olathe at reference coordinates 38-36-18 NL and 107-58-54 WL without a site restriction in compliance with the Commission's technical requirements for spacing and city grade coverage. The Commission dismissed the counterproposal filed by the licensee of Station KAVD(FM), Limon, CO, at its request in compliance with Section 1.420(j) of the Commission's Rules.

DATES: Effective May 6, 2002.

FOR FURTHER INFORMATION CONTACT: Andrew J. Rhodes, Mass Media Bureau, (202) 418-2180.

SUPPLEMENTARY INFORMATION: This is a synopsis of the Commission's Report and Order, MM Docket No. 99-28 adopted March 13, 2002 and released March 22, 2002. The full text of this document is available for public inspection and copying during regular business hours at the FCC Reference Information Center, Portals II, 445 12th Street, SW., Room CY-A257, Washington, DC, 20554. This document may also be purchased from the Commission's duplicating contractor, Qualex International, Portals II, 445 12th Street, SW., Room CY-B402, Washington, DC 20554, telephone 202-863-2893, facsimile 202-863-2898, or via e-mail qualexint@aol.com.

List of Subjects in 47 CFR Part 73

Radio broadcasting.

Part 73 of Title 47 of the Code of Federal Regulations is amended as follows:

PART 73—RADIO BROADCAST SERVICES

1. The authority citation for Part 73 continues to read as follows:

Authority: 47 U.S.C. 154, 303, 334, and 336.

§ 73.202 [Amended]

2. Section 73.202(b), the Table of FM Allotments under Colorado, is amended by adding Channel 270C2 at Olathe.

Federal Communications Commission.
John A. Karousos,
Chief, Allocations Branch, Policy and Rules Division, Mass Media Bureau.

[FR Doc. 02-8397 Filed 4-5-02; 8:45 am]

BILLING CODE 6712-01-P